DEPARTMENT OF THE TREASURY

United States Mint

Establish Prices for 2019 and 2020 United States Mint Numismatic Products

AGENCY: United States Mint, Department of the Treasury.

ACTION: Notice.

SUMMARY: The United States Mint is announcing pricing for United States Mint numismatic products in accordance with the table below:

Product | 2020 Retail Price
2019 American Innovation™ $1 Reverse Proof Coin—New Jersey | $11.50
2019 American Innovation™ $1 Reverse Proof Coin—Georgia | 11.50
2020 United States Mint America The Beautiful Quarters Proof Set™ | 18.50
2020 United States Mint America The Beautiful Quarters Silver Proof Set™ | 42.50
2020 United States Mint Proof Set® | 32.00
2020 United States Mint Birth Set | 23.00
2020 United States Mint Happy Birthday Coin Set | 23.00
2020 United States Mint Congratulations Set | 65.50
2020 America the Beautiful Quarters® Three-Roll Set—National Park of American Samoa | 49.25
2020 America the Beautiful Quarters® Two-Roll Set—National Park of American Samoa | 34.50
2020 America the Beautiful Quarters® Roll—National Park of American Samoa | 19.75
2020 America the Beautiful Quarters® Bags—National Park of American Samoa | 36.75
2020 America the Beautiful Quarters Three-Coin Set™—National Park of American Samoa Quarters | 11.50
2020 America the Beautiful Five Ounce Uncirculated Silver Coin™—National Park of American Samoa | 178.25
2020 Native American 1 Coin Rolls | 34.50
2020 Native American 1 Coin 250-Coin Box | 289.75
2020 Native American 1 Bags | 117.50
2020 American Eagle One Ounce Silver Proof Coin | 64.50
2020 American Eagle One Ounce Silver Proof Coin Bulk Pack | 2,580.00
Andrew Jackson Presidential Silver Medal | 46.00

FOR FURTHER INFORMATION CONTACT: Katrina McDow, Marketing Specialist, Sales and Marketing; United States Mint; 801 9th Street NW; Washington, DC 20220; or call 202-354-8495.

Authority: 31 U.S.C. 5111, 5112, 5132 & 9701.

Dated: December 30, 2019.
Patrick Hernandez,
Chief Administrative Officer, United States Mint.

[FR Doc. 2019-28401 Filed 1-2-20; 8:45 am]

BILLING CODE P